DEPARTMENT OF THE INTERIOR

Fish and Wildlife Service

[FWS-HQ-IA-2013-N210; FXIA16710900000P5-123-FF09A30000]

Endangered Species; Issuance of Permits

AGENCY: Fish and Wildlife Service, Interior.

ACTION: Notice of issuance of permits.

SUMMARY: We, the U.S. Fish and Wildlife Service (Service), have issued the following permits to conduct certain activities with endangered species. We issue these permits under the Endangered Species Act (ESA).

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit No. | Applicant | Receipt of application Federal Register notice | Permit issuance date
91242A, 91243A, 91244A, 91245A, 91246A, 91247A, 91248A,91265A, 91266A, 91256A, 91259A, 91260A, 91261A, 91262A, 91263A and 91264A | Feld Entertainment, Inc | 78 FR 9725; February 11, 2013 | May 8, 2013.
058658, 058659, 058660, 058662, 058665, 058666, 058667, 058668, 058735, 058736, 068350, 068353, 154232,059163, and 182594 | Hawthorn Corporation | 78 FR 9725; February 11, 2013 | May 8, 2013.
03134B | White Oak Conservation Holdings LLC | 78 FR23286; April 18, 2013 | June 6, 2013.
03596B | Coastal Exotics Inc | 78 FR 25296; April 30, 2013 | June 6, 2013.
701525 | David Hanson | 78 FR 25296; April 30, 2013 | June 6, 2013.
676793 | Minnesota Zoological Gardens | 78 FR 25296; April 30, 2013 | June 6, 2013.
03445B | Susan Minor | 78 FR 25296; April 30, 2013 | June 6, 2013.
228672 | Terry Shinn | 78 FR 25296; April 30, 2013 | June 6, 2013.
03591B | Tiemann Land & Cattle Development Inc | 78 FR 25296; April 30, 2013 | June 6, 2013.
203351 | Armando Bazaldua | 78 FR 25296; April 30, 2013 | June 17, 2013.
03577B | Patterson Energy Of Texas, LLC | 78 FR 25296; April 30, 2013 | June 17, 2013.
71533A | Patterson Energy Of Texas, LLC | 78 FR 25296; April 30, 2013 | June 17, 2013.
03434B | Four A Ranch | 78 FR 25296; April 30, 2013 | June 17, 2013.
03435B | Four A Ranch | 78 FR 25296; April 30, 2013 | June 17, 2013.
673458 | Sedgwick County Zoo | 78 FR 25296; April 30, 2013 | June 26, 2013.
04775B | Susan Minor | 78 FR 27253; May 9, 2013 | June 17, 2013.
119213 | Delorce Bennett | 78 FR 27253; May 9, 2013 | June 17, 2013.
679476 | Sunset Zoological Park | 78 FR 27253; May 9, 2013 | June 17, 2013.
04821B | Atlanta Fulton County Zoo, Inc | 78 FR 27253; May 9, 2013 | June 26, 2013.
04821B | Atlanta Fulton County Zoo, Inc | 78 FR 27253; May 9, 2013 | August 22, 2013.
05176B | Yang Li | 78 FR 30325; May 22, 2013 | June 26, 2013.
05055B | Comanche Spring Ranch | 78 FR 30325; May 22, 2013 | July 16, 2013.
05056B | Comanche Spring Ranch | 78 FR 30325; May 22, 2013 | July 16, 2013.
05058B | Thirsty River Ranch | 78 FR 30325; May 22, 2013 | July 16, 2013.
05059B | Thirsty River Ranch | 78 FR 30325; May 22, 2013 | July 16, 2013.
804095 | Brad Blevins | 78 FR 34118; June 6, 2013 | July 16, 2013.
06673B | Animal Conservation Unlimited, Inc | 78 FR 34118; June 6, 2013 | July 18, 2013.
05648B | Blue Sky Aviaries LLC | 78 FR 34118; June 6 2013 | July 18, 2013.
05160B | Cord Offermann | 78 FR 34118; June 6 2013 | July 18, 2013.
840690 | Pittsburgh Zoo | 78 FR 34118; June 6 2013 | July 18, 2013.
156736 | Wesley Williams | 78 FR 34118; June 6 2013 | July 18, 2013.
06542B | Corley Ranch | 78 FR 34118; June 6 2013 | July 23, 2013.
06662B | Corley Ranch | 78 FR 34118; June 6 2013 | July 23, 2013.
785246 | Robert Blome | 78 FR 34118; June 6 2013 | July 24, 2013.
06588B | City Of Gainesville | 78 FR 34118; June 6 2013 | July 24, 2013.
07311B | Douglas Dix | 78 FR 34118; June 6 2013 | July 24, 2013.
93972A | KHJ Property Management, LLC | 78 FR 34118; June 6 2013 | July 24, 2013.
05246B | Masquerade Exotic Animals, LLC | 78 FR 34118; June 6 2013 | July 24, 2013.
682850 | Louis Waters | 78 FR 34118; June 6 2013 | July 24, 2013.
694912 | Zoological Society Of San Diego/San Diego Zoo | 78 FR 34118; June 6 2013 | July 24, 2013.
06849B | Timothy Gazankas | 78 FR 34118; June 6 2013 | July 25, 2013.
740398 | Atlanta Fulton County Zoo | 78 FR 38731; June 27, 2013 | July 31, 2013.
08619B | Sandy Blauvelt | 78 FR 38731; June 27, 2013 | July 31, 2013.
693363 | Dickerson Park Zoo | 78 FR 38731; June 27, 2013 | July 31, 2013.
692868 | Greater Baton Rouge Zoo | 78 FR 38731; June 27, 2013 | July 31, 2013.
08522B | John Messmer | 78 FR 38731; June 27, 2013 | July 31, 2013.
839465 | Nashville Zoo | 78 FR 38731; June 27, 2013 | July 31, 2013.
668353 | National Zoological Park | 78 FR 38731; June 27, 2013 | July 31, 2013.
816505 | Ross Popenoe | 78 FR 38731; June 27, 2013 | July 31, 2013.
052166 | Memphis Zoological Gardens | 78 FR 38731; June 27, 2013 | August 1, 2013.
49112A | Morani River Ranch | 78 FR 38731; June 27, 2013 | August 12, 2013.
7778B | Joel Owens | 78 FR 38731; June 27, 2013 | August 12, 2013.
09121B | Kenneth Siffert | 78 FR 38731; June 27, 2013 | August 12, 2013.
88777A | Wild Wonders Zoofari | 78 FR 38731; June 27, 2013 | August 12, 2013.
806176 | Metro Richmond Zoo | 78 FR 38731; June 27, 2013 | August 15, 2013.
757434 | Gibbon Conservation Center | 78 FR 38731; June 27, 2013 | August 27, 2013.
089277 | Reide Sneddon | 78 FR 40762; July 8, 2013 | August 12, 2013.
683352 | Walter Sturgeon | 78 FR 40762; July 8, 2013 | August 12, 2013.
687596 | Seneca Park Zoo | 78 FR 40762; July 8, 2013 | August 15, 2013.
09439B | John Anderson | 78 FR 40762; July 8, 2013 | August 27, 2013.
09440B | John Anderson | 78 FR 40762; July 8, 2013 | August 27, 2013.
09757B | World Class Reptiles | 78 FR 40762; July 8, 2013 | August 27, 2013.
681252 | Cincinnati Zoo & Botanical Garden | 78 FR 44961; July 25, 2013 | August 27, 2013.
148278 | Mary Harris | 78 FR 44961; July 25, 2013 | August 27, 2013.
748080 | Alvin Novosad | 78 FR 44961; July 25, 2013 | August 27, 2013.
10997B | Lauren Ogburn | 78 FR 44961; July 25, 2013 | August 27, 2013.
10983B | Clyde Reams | 78 FR 44961; July 25, 2013 | August 27, 2013.
154639 | Richard Sines | 78 FR 44961; July 25, 2013 | August 27, 2013.
702166 | Tampa's Lowry Park Zoological Gardens | 78 FR 44961; July 25, 2013 | August 27, 2013.
09914B | Zoological Society Of San Diego | 78 FR 44961; July 25, 2013 | August 28, 2013.
09942B | Zoological Society Of San Diego | 78 FR 44961; July 25, 2013 | August 28, 2013

Availability of Documents

Documents and other information submitted with these applications are available for review, subject to the requirements of the Privacy Act and Freedom of Information Act, by any party who submits a written request for a copy of such documents to: Division of Management Authority, U.S. Fish and Wildlife Service, 4401 North Fairfax Drive, Room 212, Arlington, VA 22203; fax (703) 358-2280.

Brenda Tapia,
Program Analyst/Data Administrator, Branch of Permits, Division of Management Authority.

[FR Doc. 2013-22422 Filed 9-13-13; 8:45 am]

BILLING CODE 4310-55-P